BUREAU OF CONSUMER FINANCIAL PROTECTION

[Docket No. CFPB-2019-0053]

Agency Information Collection Activities: Submission for OMB Review; Comment Request

AGENCY: Bureau of Consumer Financial Protection.

ACTION: Notice and request for comment.

SUMMARY: In accordance with the Paperwork Reduction Act of 1995 (PRA), the Bureau of Consumer Financial Protection (Bureau) is proposing to reinstate with change a previously approved collection, or a new or revised generic clearance titled, “Generic Information Collection Plan for Information on Compliance Costs and Other Effects of Regulations.” Also, in accordance with the PRA, the Bureau is requesting Office of Management and Budget (OMB) approval of the Generic Information Collection titled, “Industry Survey for the TRID Assessment” under this Generic Information Collection Plan.

DATES: Written comments are encouraged and must be received on or before November 18, 2019 to be assured of consideration.

ADDRESSES: Comments in response to this notice are to be directed towards OMB and to the attention of the OMB Desk Officer for the Bureau of Consumer Financial Protection. You may submit comments, identified by the title of the information collection, OMB Control Number (see below), and docket number (see above), by any of the following methods:

• Electronic: http://www.regulations.gov. Follow the instructions for submitting comments.

• Email: OIRA_submission@omb.eop.gov.

• Fax: (202) 395-5806.

• Mail: Office of Management and Budget, New Executive Office Building, Room 10235, Washington, DC 20503.

In general, all comments received will become public records, including any personal information provided. Sensitive personal information, such as account numbers or Social Security numbers, should not be included.

FOR FURTHER INFORMATION CONTACT: Documentation prepared in support of this information collection request is available at www.reginfo.gov (this link becomes active on the day following publication of this notice). Select “Information Collection Review,” under “Currently under Review,” use the dropdown menu “Select Agency” and select “Consumer Financial Protection Bureau” (recent submissions to OMB will be at the top of the list). The same documentation is also available at http://www.regulations.gov. Requests for additional information should be directed to Darrin King, PRA Officer, at (202) 435-9575, or email: CFPB_PRA@cfpb.gov. If you require this document in an alternative electronic format, please contact CFPB_Accessibility@cfpb.gov. Please do not submit comments to these email boxes.

SUPPLEMENTARY INFORMATION:

Title of Collection: Generic Information Collection Plan for Information on Compliance Costs and Other Effects of Regulations.

OMB Control Number: 3170-0032.

Type of Review: Reinstatement with change of a previously Approved Information Collection.

Affected Public: Businesses and other for-profit entities.

Estimated Number of Respondents: 37,500.

Estimated Total Annual Burden Hours: 38,997.

Abstract: The Dodd-Frank Wall Street Reform and Consumer Protection Act requires or authorizes the Bureau to implement new consumer protections in the offering or provision of certain consumer financial products and services. The information collected is required in order to effectively incorporate information from providers concerning compliance costs and other effects of regulations as part of the information base for potential rulemakings and prospective and retrospective regulatory burden analyses.

Information Collection

Title of Collection: Industry Survey for the TRID Assessment.

OMB Control Number: 3170-0032.

Type of Review: Request for approval of a generic information collection.

Affected Public: Businesses and other for-profit entities.

Estimated Number of Respondents: 11,906.

Estimated Total Burden Hours: 9,230.

Abstract: The Dodd-Frank Act requires that the Bureau assess its significant rules within 5 years of a rule's effective date. The Bureau has determined that its November 2013 final rule titled “Integrated Mortgage Disclosures Under the Real Estate Settlement Procedures Act (Regulation X) and the Truth In Lending Act (Regulation Z)” (TRID Rule), with subsequent amendments, is a significant rule. The Act requires that the Bureau's assessment reflect available evidence and data that the Bureau may reasonably collect. This information collection will allow the Bureau to reach out to a cross-section of stakeholders and gather information from them about their experiences with the Rule.

This survey is one part of an overall effort to fulfill the Bureau's obligation to address, among other relevant factors, the effectiveness of the TRID Rule in meeting the purposes and objectives of title X of Dodd-Frank and the specific goals of the Rule as stated by the Bureau. As part of its broader information collection related to the assessment, the Bureau has obtained, or is working to obtain, data from a number of other sources.

Request for Comments: The Bureau issued a 60-day Federal Register notice on June 5, 2019, 84 FR 26078, Docket Number: CFPB-2019-0031. Comments were solicited and continue to be invited on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments may address the overall information collection request plan or the individual collection. Comments submitted in response to this notice will be reviewed by OMB as part of its review of this request. All comments will become a matter of public record.

Dated: October 15, 2019.
Darrin A. King,
Paperwork Reduction Act Officer, Bureau of Consumer Financial Protection.

[FR Doc. 2019-22771 Filed 10-17-19; 8:45 am]

BILLING CODE 4810-AM-P